FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
October 1, 2019 thru October 31, 2019
10/01/2019
20191999 | G | Aimbridge Group Holdings, LP; KIHR Holdings I, LLC; Aimbridge Group Holdings, LP.
20192044 | G | Alamo Group Inc.; Stellex Capital Partners LP; Alamo Group Inc.
20192051 | G | ANSYS, Inc.; John O. Hallquist; ANSYS, Inc.
20192054 | G | John O. Hallquist; ANSYS, Inc.; John O. Hallquist.
10/03/2019
20192018 | G | Vertex Pharmaceuticals Incorporated; Semma Therapeutics, Inc.; Vertex Pharmaceuticals Incorporated.
20192030 | G | ICG Strategic Equity Fund III (Offshore) LP; ACON Equity Partners III, L.P.; ICG Strategic Equity Fund III (Offshore) LP.
10/04/2019
20191210 | S | Blackstone Capital Partners VII L.P.; Freeman Decorating Co.; Blackstone Capital Partners VII L.P.
20191991 | G | World Fuel Services Corporation; C. Gregory Evans, II; World Fuel Services Corporation.
20192011 | G | New Jersey Resources Corporation; Macquarie Infrastructure Partners II International L.P.; New Jersey Resources Corporation.
20192026 | G | PSP Public Credit I Inc.; Postmates Inc.; PSP Public Credit I Inc.
20192027 | G | PAR Investment Partners, L.P.; Groupon, Inc.; PAR Investment Partners, L.P.
20192047 | G | Aves IA Infrastructure Limited Partnership; Oilfield Water Logistics, LLC; Aves IA Infrastructure Limited Partnership.
20192053 | G | LTRI Holdings, LP; White Deer Energy L.P. II; LTRI Holdings, LP.
20192058 | G | By Light InvestCo LP; Cole Engineering Services, Inc.; By Light InvestCo LP.
20192059 | G | Axium Infrastructure NA IV LP; Iberdrola, S.A.; Axium Infrastructure NA IV LP.
20192062 | G | HKW Capital Partners V, L.P.; John M. Floyd; HKW Capital Partners V, L.P.
20192066 | G | Gamut Investment Fund I, L.P.; American Axle & Manufacturing Holdings, Inc.; Gamut Investment Fund I, L.P.
20192071 | G | Spot Light Investments, LLC; HF Foods Group Inc.; Spot Light Investments, LLC.
20192072 | G | Las Tejoneras, S.L.; Canal Street Brewing Co., L.L.C.; Las Tejoneras, S.L.
20192074 | G | Blackstone Capital Partners VII NQ L.P.; Eugene Ludwig; Blackstone Capital Partners VII NQ L.P.
20192076 | G | One Equity Partners VII, L.P.; Sycamore Partners II, L.P.; One Equity Partners VII, L.P.
20192079 | G | OHCP Crimson Holdings, L.P.; Genstar Capital Partners VI, L.P.; OHCP Crimson Holdings, L.P.
20192080 | G | The Carlyle Group L.P.; Carlyle Holdings III L.P.; The Carlyle Group L.P.
20192081 | G | The Carlyle Group L.P.; Carlyle Holdings I L.P.; The Carlyle Group L.P.
20192084 | G | Arthur J. Gallagher & Co.; Jay Schreibman; Arthur J. Gallagher & Co.
20192089 | G | GTCR Fund XII/B LP; Golden Gate Capital Opportunity Fund, L.P.; GTCR Fund XII/B LP.
20192090 | G | Mosaic Acquisition Corp.; Blackstone Capital Partners VI L.P.; Mosaic Acquisition Corp.
20192098 | G | Ranger JV Co., LLC; Caesars Entertainment Corporation; Ranger JV Co., LLC.
10/08/2019
20191992 | G | Elliott Associates, L.P.; AT&T Inc.; Elliott Associates, L.P.
20191994 | G | Elliott International Limited; AT&T Inc.; Elliott International Limited.
20192097 | G | Graham Partners V, L.P.; HKW Capital Partners IV, L.P.; Graham Partners V, L.P.
10/09/2019
20192007 | G | Hasbro, Inc.; Entertainment One Ltd.; Hasbro, Inc.
20192073 | G | Vista Equity Partners Fund VII-A, L.P.; Acquia Inc.; Vista Equity Partners Fund VII-A, L.P.
10/10/2019
20192060 | G | Michael W. Rice; Conagra Brands, Inc.; Michael W. Rice.
20200001 | G | Hoerbiger-Stiftung; Donald L. Deubler; Hoerbiger-Stiftung.
10/11/2019
20192100 | G | Primus Capital Fund VIII, L.P.; Trilliant Health Holdings, Inc.; Primus Capital Fund VIII, L.P.
20200002 | G | SK Holdings Co., Ltd.; DuPont de Nemours, Inc.; SK Holdings Co., Ltd.
20200003 | G | CopperPoint Mutual Insurance Holding Company; George S. Suddock; CopperPoint Mutual Insurance Holding Company.
20200004 | G | Parthenon Investors V, L.P.; MRO Holdings CR LP; Parthenon Investors V, L.P.
20200006 | G | Trimble Inc.; Azteca Systems Enterprises, Inc.; Trimble Inc.
20200007 | G | Simon Property Group, Inc.; Michael G. Rubin; Simon Property Group, Inc.
20200009 | G | Temasek Holdings (Private) Limited; 2nd Watch, Inc.; Temasek Holdings (Private) Limited.
20200011 | G | CoStar Group, Inc.; Randell Allen Smith; CoStar Group, Inc.
20200025 | G | Parthenon Investors V, L.P.; Payroc LLC; Parthenon Investors V, L.P.
20200030 | G | HEARTS Holdings L.P.; NSM Top Holdings Corp.; HEARTS Holdings L.P.
10/15/2019
20200014 | G | White Deer Energy LP III; Intervale Capital Fund III, L.P.; White Deer Energy LP III.
20200019 | G | Apax IX USD L.P.; Trinity Hunt Partners IV, L.P.; Apax IX USD L.P.
10/16/2019
20200012 | G | Energy Transfer LP; SemGroup Corporation; Energy Transfer LP.
20200018 | G | EMCOR Group, Inc.; DB 2006 Family Trust; EMCOR Group, Inc.
20200023 | G | Gavin de Becker; TPG Growth II DE AIV II, L.P.; Gavin de Becker.
10/17/2019
20200010 | G | EQT Infrastructure IV (No. 1) EUR SCSp; ANRP II (AIV P), L.P.; EQT Infrastructure IV (No. 1) EUR SCSp.
20200013 | G | EQT Infrastructure IV (No. 1) EUR SCSp; EQT Infrastructure III (No. 1) SCSp; EQT Infrastructure IV (No. 1) EUR SCSp.
20200021 | G | Citizen Energy Holdings, LLC; Roan Resources, Inc.; Citizen Energy Holdings, LLC.
20200024 | G | Tokyo Century Corporation; Pacific Mutual Holding Company; Tokyo Century Corporation.
10/21/2019
20200026 | G | Q2 Holdings, Inc.; Lender Performance Group, LLC; Q2 Holdings, Inc.
20200036 | G | Industrial Growth Partners V, L.P.; Bunker Hill Capital II (QP), L.P.; Industrial Growth Partners V, L.P.
20200037 | G | Laurens Last; Scholle Holding Co., LLC; Laurens Last.
20200038 | G | Kenneth D. Tuchman; Matthew Achak; Kenneth D. Tuchman.
20200039 | G | Kenneth D. Tuchman; John Stadter; Kenneth D. Tuchman.
20200044 | G | Logitech International S.A.; General Workings, Inc.; Logitech International S.A.
20200060 | G | Sutter Hill Ventures, a California Limited Partnership; Clumio, Inc.; Sutter Hill Ventures, a California Limited Partnership.
20200061 | G | OHCP Silver Surfer Holdings Corp.; Thomas H. Lee Equity continuation Fund VI (2019), L.P.; OHCP Silver Surfer Holdings Corp.
20200062 | G | Fortive Corporation; Riverside Micro-Cap Fund III, L.P.; Fortive Corporation.
20200065 | G | Roku, Inc.; DataXu, Inc.; Roku, Inc.
10/22/2019
20200042 | G | Tailwind Capital Partners III, L.P.; High Road Capital Partners Fund II, L.P.; Tailwind Capital Partners III, L.P.
10/23/2019
20200022 | G | NGL Energy Partners LP; Golden Gate Capital Opportunity Fund, L.P.; NGL Energy Partners LP.
20200041 | G | BREP 9 Neptune Holdco LLC; CCP III AIV I, L.P.; BREP 9 Neptune Holdco LLC.
20200053 | G | Siemens Aktiengesellschaft; Gryphon Partners 3.5, L.P.; Siemens Aktiengesellschaft.
20200063 | G | Newco, a-to-be-formed limited partnership; Clayton Dubilier & Rice Fund IX; Newco, a-to-be-formed limited partnership.
20200066 | G | Clayton, Dubilier & Rice Fund X, L.P.; Clayton, Dubilier & Rice Fund IX, L.P.; Clayton, Dubilier & Rice Fund X, L.P.
10/24/2019
20191956 | S | Frank Tiegs; NORPAC Foods, Inc.; Frank Tiegs.
10/25/2019
20192093 | G | Ellie Mae Parent, LP; Francisco Partners IV, L.P.; Ellie Mae Parent, LP.
20200057 | G | Swedish Orphan Biovitrum AB (publ); Paul B. Manning; Swedish Orphan Biovitrum AB (publ).
20200067 | G | Broadridge Financial Solutions, Inc.; Thomas E. McInerney and Paula McInerney; Broadridge Financial Solutions, Inc.
20200069 | G | B. Riley Financial, Inc.; BR Brand Acquisition LLC; B. Riley Financial, Inc.
20200077 | G | Phillip G. Ruffin; MGM Resorts International; Phillip G. Ruffin.
20200078 | G | GPAQ Acquisition Holdings, Inc.; Stuart Lichter; GPAQ Acquisition Holdings, Inc.
20200084 | G | Lantheus Holdings, Inc.; Progenics Pharmaceuticals, Inc.; Lantheus Holdings, Inc.
20200085 | G | Avaya Holdings Corp.; RingCentral, Inc.; Avaya Holdings Corp.
20200086 | G | RingCentral, Inc.; Avaya Holdings Corp.; RingCentral, Inc.
20200087 | G | Trust 463; The Eurona Foundation; Trust 463.
20200090 | G | 2019 HS TopCo, LP; HGGC Fund III-A, L.P.; 2019 HS TopCo, LP.
20200093 | G | Cerberus Institutional Partners VI, L.P.; GI Partners Fund IV L.P.; Cerberus Institutional Partners VI, L.P.
20200096 | G | AMP Capital Global Infrastructure Fund II B LP; Landmark Media Enterprises, LLC; AMP Capital Global Infrastructure Fund II B LP.
10/29/2019
20200015 | G | MIWD Holding Company LLC; Masco Corporation; MIWD Holding Company LLC.
20200075 | G | Harvest Partners VIII, L.P.; Yellowstone Holdings, LLC; Harvest Partners VIII, L.P.
20200076 | G | Harvest Partners VIII (Parallel), L.P.; Yellowstone Holdings, LLC; Harvest Partners VIII (Parallel), L.P.
20200083 | G | Shiseido Company, Limited; Drunk Elephant Holdings, LLC; Shiseido Company, Limited.
20200099 | G | TZP Capital Partners III, L.P.; Wells Fargo & Company; TZP Capital Partners III, L.P.
10/30/2019
20200058 | G | Health Sciences Acquisitions Corporation; Roivant Sciences Ltd.; Health Sciences Acquisitions Corporation.
20200088 | G | AustralianSuper; Generate Capital, Inc.; AustralianSuper.
20200095 | G | Brentwood Associates Private Equity VI, L.P.; LOR, Inc.; Brentwood Associates Private Equity VI, L.P.

FOR FURTHER INFORMATION CONTACT: Theresa Kingsberry (202-326-3100), Program Support Specialist, Federal Trade Commission Premerger Notification Office, Bureau of Competition, Room CC-5301, Washington, DC 20024.

By direction of the Commission.
April Tabor,
Acting Secretary.

[FR Doc. 2020-00093 Filed 1-7-20; 8:45 am]

BILLING CODE 6750-01-P